DEPARTMENT OF TRANSPORTATION

Federal Railroad Administration

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of a signal system, as detailed below.

Docket Number FRA-2010-0159

Applicant: BNSF Railway, Mr. James LeVere, AVP Signals, BNSF Railway Company, 2600 Lou Menk Drive, OOB 3, Fort Worth, Texas 76131.

The BNSF Railway Company (BNSF) seeks relief from the requirements of 49 CFR 235.5 to expedite successful installation of Positive Train Control (PTC) mandated by the Rail Safety Improvement Act of 2008. BNSF will be updating first generation, non-microprocessor based coded track circuitry, eliminating certain searchlight signal mechanisms, relocating signals to more advantageous locations and other desired modifications not previously addressed, which may otherwise require the submission of an application.

In requesting this waiver, BNSF proposes to perform minimal modifications to existing signal systems, while maintaining compliance with part 236 in the same manner and process as provided for under 49 CFR 235.7(c)(24)(vi). Providing identification of the proposed changes to FRA's regional office having jurisdiction in the affected area would expedite desired modification of existing signal systems in preparation for the installation of PTC, while reducing the administrative workload for both FRA and BNSF. Additionally, this relief would reduce the approval delay, while still providing FRA review and oversight of the proposed changes in the same manner as pole line elimination projects.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (Docket Number FRA-2010-0159) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on November 17, 2010.
Michael Logue,
Deputy Associate Administrator for Safety Compliance and Program Implementation.

[FR Doc. 2010-29473 Filed 11-22-10; 8:45 am]

BILLING CODE 4910-06-P